DEPARTMENT OF THE INTERIOR

Bureau of Land Management

[AZ-030-2640-BH; AZA 31887]

Public Land Order No. 7629; Withdrawal of Public Land for the Hillside Mine Reclamation Project; Arizona

AGENCY: Bureau of Land Management, Interior.

ACTION: Public land order.

SUMMARY: This order withdraws 352.55 acres of public land from location and entry under the United States mining laws for a period of 5 years to protect the Hillside Mine Reclamation Project while the Bureau of Land Management completes land use planning for the area.

DATES: Effective Date: April 8, 2005.

FOR FURTHER INFORMATION CONTACT: Paul Misiaszek, BLM Kingman Field Office, 2755 Mission Boulevard Avenue, Kingman, Arizona 86401, 928-718-3740.

Order

By virtue of the authority vested in the Secretary of the Interior by Section 204 of the Federal Land Policy and Management Act of 1976, 43 U.S.C. 1714 (2000), it is ordered as follows:

1. Subject to valid existing rights, the following described public land is hereby withdrawn from location and entry under the United States mining laws, 30 U.S.C. Ch. 2 (2000), to protect the Bureau of Land Management's Hillside Mine Reclamation Project:

Gila and Salt River Meridian

T. 15 N., R. 9 W.,

sec. 16, lots 1 to 5, inclusive, SW¼NE¼, SE¼NW¼, NW¼SW¼, and E½SE¼.

The area described contains 352.55 acres in Yavapai County.

2. This withdrawal will expire 5 years from the effective date of this order unless, as a result of a review conducted before the expiration date pursuant to Section 204(f) of the Federal Land Policy and Management Act of 1976, 43 U.S.C. 1714(f) (2000), the Secretary determines that the withdrawal shall be extended.

Dated: March 18, 2005.
Rebecca W. Watson,
Assistant Secretary—Land and Minerals Management.

[FR Doc. 05-6975 Filed 4-7-05; 8:45 am]

BILLING CODE 4310-32-P